DEPARTMENT OF TRANSPORTATION

Federal Highway Administration

Notice of Final Federal Agency Actions on Interstate 84 Highway in Idaho

AGENCY: Federal Highway Administration (FHWA), DOT.

ACTION: Notice of limitation on claims for judicial review of actions by FHWA.

SUMMARY: This notice announces actions taken by the FHWA that are final within the meaning of 23 U.S.C. 139(l)(1). The actions relate to a proposed highway project, I-84 Karcher Interchange to Five Mile Environmental Study, in Boise, Ada and Canyon Counties in the State of Idaho [Idaho Transportation Department (ITD) Key Number 10002].

DATES: By this notice, the FHWA is advising the public of final agency actions subject to 23 U.S.C. 139(l)(1). A claim seeking judicial review of the Federal agency actions on the highway project will be barred unless the claim is filed on or prior to July 21, 2010. If the Federal law that authorizes judicial review of a claim provides a time period of less than 180 days for filing such claim, then that shorter time period still applies.

FOR FURTHER INFORMATION CONTACT: For FHWA: Mr. Peter Hartman, Division Administrator, Federal Highway Administration, 3050 Lake Harbor Lane, Suite 126, Boise, Idaho 83703; telephone: (208) 334-9180; e-mail: Idaho.FHWA@dot.gov. The FHWA Idaho Division Office's normal business hours are 8 a.m. to 5 p.m. (Mountain Standard Time). For ITD: Ms. Sue Sullivan, Environmental Section Manager, Idaho Transportation Department, 3311 W. State St., PO Box 7129, Boise, ID 83707-1129, (208) 334-8203. Normal business hours are 8 a.m. to 5 p.m. (Mountain Standard Time).

SUPPLEMENTARY INFORMATION: Notice is hereby given that the FHWA has taken final agency actions subject to 23 U.S.C. 139(l)(1) by issuing approvals for the following highway project in the State of Idaho: I-84 Karcher Interchange to Five Mile Environmental Study in Boise, Ada and Canyon Counties. The project will be approximately 16 miles long, and expand the existing four-lane freeway to a six-lane freeway from approximately Karcher interchange to Garrity Boulevard interchange. An existing six-lane freeway will be expanded to an eight-lane freeway from Garrity interchange to Meridian Road interchange, and from Meridian Road interchange to just east of Five Mile Road the existing eight-lane freeway will be reconstructed.

The project also includes:

• Addition of eastbound and westbound auxiliary lanes between the Northside Boulevard and Franklin Boulevard Interchange on- and off-ramps.

• Addition of an eastbound deceleration lane for the Garrity Boulevard Interchange eastbound off-ramp as part of a two-lane off-ramp.

• Addition of an eastbound acceleration lane for the Garrity Boulevard Interchange eastbound on-ramp.

• Addition of a westbound acceleration lane for the Meridian Road Interchange westbound on-ramp.

• Addition of a westbound auxiliary lane between the Eagle Road Interchange westbound on-ramp and the Meridian Road Interchange westbound off-ramps.

• Addition of an eastbound deceleration lane for the Eagle Road Interchange eastbound off-ramp as part of a two-lane off-ramp.

• Reconstruction of the Northside Boulevard, Garrity Boulevard, and Meridian Road interchanges and expansion of the Eagle Road Interchange.

• Interchange and/or ramp improvements to the Karcher Interchange and Franklin Boulevard Interchange.

• Reconstruction of the Karcher Road and 11th Avenue overpasses.

• Reconstruction and/or widening of irrigation and stream structures along I-84.

• Reconstruction of the structures over the Union Pacific Railroad and the Idaho Northern and Pacific Railroad.

• Culvert expansion and storm water storage facilities throughout the corridor.

The actions by the FHWA, and the laws under which such actions were taken, are described in the Environmental Assessment (EA) for the project approved on November 14, 2008. A Finding of No Significant Impact (FONSI) issued on April 10, 2009. The EA, FONSI and other project records are available by contacting the FHWA or the Idaho Transportation Department at the addresses provided above. The EA and FONSI can be viewed and downloaded from the project Web site at http://itd.idaho.gov by clicking on the “GARVEE Transportation Program” logo, then by selecting the I-84 Caldwell to Meridian corridor, then by selecting the I-84 Karcher Interchange to Five Mile Environmental Study.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128]; Public Hearing [23 U.S.C. 128].

2. Air and Noise: Clean Air Act [42 U.S.C. 7401-7671(q)]; Intermodal Surface Transportation Efficiency Act of 1991, Congestion Mitigation and Air Quality Improvement Program (Sec. 1008 U.S.C. 149); Noise Standards: 23 U.S.C. 109(i) (Pub. L. 91-605) (Pub. L. 93-87).

3. Wildlife: Endangered Species Act [16 U.S.C. 1531-1544 and Section 1536]; Fish and Wildlife Coordination Act [16 U.S.C. 661-667(d)]; Migratory Bird Treaty Act [16 U.S.C. 703-712].

4. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)].

5. Land: Section 4(f) of The Department of Transportation Act: 23 U.S.C. 138, 49 U.S.C. 303 (Pub. L. 100-17), (Pub. L. 7-449), (Pub. L. 86-670); Farmland Protection Policy Act (FPPA) [7 U.S.C. 4201-4209]; Solid Waste Disposal Act, as amended by the Resource Conservation and Recovery Act of 1976 (42 U.S.C. 6901, et seq.)

6. Social and Economic: Civil Rights Act of 1964 [42 U.S.C. 2000(d)-2000(d)(1)]; Uniform Relocation Assistance and Real Property Acquisition Act of 1970 (42 U.S.C. 4601 et seq., Pub. L. 91-646) as amended by the Uniform Relocation Act Amendments of 1987 (Pub. L. 100-17).

7. Wetlands and Water Resources: Clean Water Act [33 U.S.C.] ; Wetlands Mitigation [23 U.S.C. 103(b)(6)(M) and 133(b)(11)].

8. Executive Orders: E.O. 11990 Protection of Wetlands; E.O. 12898, Federal Actions to Address Environmental Justice in Minority Populations and Low Income Populations; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Peter J. Hartman,
Division Administrator, FHWA—Idaho Division.

[FR Doc. 2010-1160 Filed 1-21-10; 8:45 am]

BILLING CODE 4910-RY-P